NUCLEAR REGULATORY COMMISSION

Advisory Committee on Reactor Safeguards, Meeting of the Subcommittee on Reactor Fuels; Notice of Meeting

The ACRS Subcommittee on Reactor Fuels will hold a meeting on September 29-30, 2003, Room T-2B3, 11545 Rockville Pike, Rockville, Maryland.

Portions of the meeting on September 30, 2003 may be closed to public attendance to discuss Electric Power Research Institute (EPRI) proprietary information per 5 U.S.C. 552b(c)(4).

The agenda for the subject meeting shall be as follows:

Monday, September 29, 2003—8:30 a.m. until the conclusion of business

Tuesday, September 30, 2003—8:30 a.m. until the conclusion of business

The purpose of this meeting is to review progress by the Office of Nuclear Regulatory Research in the area of high burnup fuels and other fuel-related research, to understand industry activities associated with the “Robust Fuel Program,” and to hear the experience of industry related to crud deposits on reactor fuels. The Subcommittee will hear presentations by and hold discussions with representatives of the NRC staff, EPRI, and other interested persons regarding these matters. The Subcommittee will gather information, analyze relevant issues and facts, and formulate proposed positions and actions, as appropriate, for deliberation by the full Committee.

Members of the public desiring to provide oral statements and/or written comments should notify the Designated Federal Official, Mr. Ralph Caruso (telephone 301-415-8065) five days prior to the meeting, if possible, so that appropriate arrangements can be made. Electronic recordings will be permitted only during those portions of the meeting that are open to the public.

Further information regarding this meeting can be obtained by contacting the Designated Federal Official between 8 a.m. and 5:30 p.m. (ET). Persons planning to attend this meeting are urged to contact the above named individual at least two working days prior to the meeting to be advised of any potential changes to the agenda.

Dated: September 9, 2003.
Sher Bahadur,
Associate Director for Technical Support, ACRS/ACNW.

[FR Doc. 03-23401 Filed 9-12-03; 8:45 am]

BILLING CODE 7590-01-P